Title 3—

The President

Proclamation 9131 of May 21, 2014

Establishment of the Organ Mountains-Desert Peaks National Monument

By the President of the United States of America

A Proclamation

In southern New Mexico, surrounding the city of Las Cruces in the Río Grande's fertile Mesilla Valley, five iconic mountain ranges rise above Chihuahuan Desert grasslands: the Robledo, Sierra de las Uvas, Doña Ana, Organ, and Potrillo Mountains. These mountain ranges and lowlands form the Organ Mountains-Desert Peaks area.

The Organ Mountains-Desert Peaks area is important for its ruggedly beautiful landscape and the significant scientific, historic, and prehistoric resources found there. The abundant resources testify to over 10,000 years of vibrant and diverse human history of many peoples. Objects left behind by this multi-layered history and spread throughout this geologically and ecologically diverse landscape enhance the experience of visitors to the area and represent a vital resource for paleontologists, archaeologists, geologists, biologists, and historians.

Archaeologically rich, the Organ Mountains-Desert Peaks area features hundreds of artifacts, rock art, dwellings, and other evidence of the Native peoples of the area. Three of the many rock art areas are in the Las Valles Canyon in the Sierra de las Uvas, the Providence Cone area in the Potrillo Mountains, and the Doña Ana Mountains. Scattered Paleo Indian artifacts, including those from the Folsom and Clovis cultures, represent the first people who lived in southern New Mexico and have been found in the Robledo and Potrillo Mountains as well as the Las Uvas Valley. The majority of the cultural items known to be in the Organ Mountains-Desert Peaks area are from the Chihuahuan Archaic period between 8,000 and 2,000 years ago. Diverse rock art images, along with ceramic fragments, demonstrate that the area was the scene of many cross-cultural interactions as the region's early occupants transitioned over time from roaming hunters to semi-permanent villagers.

The deeply creviced peaks of the Organ Mountains, named in 1682 by early European explorers for their resemblance to organ pipes, conceal numerous ancient dwellings, including La Cueva, and other caves where smoke-blackened ceilings evidence long-extinguished campfires. The Native people of these mountains used natural overhangs for shelter and food storage, and their obsidian points, basket fragments, and food remains are still present. Small caves and pit-house villages can be found across the landscape, including ruins of a ten-room pueblo in the Robledo Mountains.

El Camino Real de Tierra Adentro National Historic Trail memorializes an early trading route linking numerous pre-existing Native American footpaths to connect Spanish colonial capitals. The Trail, used through the 19th century by travelers, traders, settlers, soldiers, clergy, and merchants, skirts the Organ Mountains-Desert Peaks area as it follows the Río Grande Valley. Explorers and travelers along the Trail documented the marvels of this area in their journals and explored the mountains in search of mineral riches and game. Historians continue to study the southernmost portion of the area, which was acquired in 1854 as part of the Gadsden Purchase, the final territorial acquisition within the contiguous United States.

In the 1800s, the Organ Mountains-Desert Peaks area was central to several battles among the Apaches, Spanish, Mexicans, and Americans, and between Union and Confederate troops. The first Civil War engagements in New Mexico were fought in the Organ Mountains when Confederate soldiers used Baylor Pass Trail to outflank Union soldiers. In a Robledo Mountains legend, the famed Apache leader Geronimo is said to have entered a cave to avoid U.S. soldiers; while the soldiers stood guard at the only entrance of what is now known as “Geronimo's Cave,” the Apache leader mysteriously disappeared without a trace. An 1880s U.S. military heliograph station, the remains of which still stand at Lookout Peak in the Robledo Mountains, transmitted Morse code messages during the Army's western campaigns.

In the late 1850s, John Butterfield developed the Butterfield Overland Trail, a mail and passenger stagecoach service from Memphis and St. Louis to San Francisco. Butterfield set upon improving the segments of the Trail in southern New Mexico that had been previously used by Spanish explorers, the Mormon Battalion, and western settlers. Crossing the Organ Mountain-Desert Peaks area are about 20 miles of the Trail, along which sit the remains of at least one stage stop.

Visitors to the Organ Mountains can still see remnants of Dripping Springs, a once-popular resort and concert hall, built in the 1870s and converted into a sanatorium before its abandonment and decay. In the late 19th century, the infamous outlaw Billy the Kid (William H. Bonney) repeatedly traversed this area. While hiding in the Robledo Mountains, “the Kid” inscribed his signature, which is still visible today, on what is now known as “Outlaw Rock.” During World War II, the Army Corps of Engineers constructed 18-acre bombing targets, the remains of which still dot the landscape.

The long, diverse, and storied history of this landscape is not surprising given its striking geologic features and the ecological diversity that they harbor. The dramatic and disparate mountain ranges of the Organ Mountains-Desert Peaks area tower above the surrounding grasslands and deserts of the Río Grande watershed, while the Río Grande winds through the valley between the ranges. From the sedimentary deposits of the Robledo Mountains in the west, where the story of ancient life and activity is recorded in fossilized footprints, to the needle-like spires of the Organ Mountains in the east and the ancient volcanic fields and lava flows in the south, these peaks trace the region's varied geologic history.

The Sierra de las Uvas, the westernmost of the peaks, are low volcanic mountains that bear the red tint of the lava from which they formed over 10 million years ago. The tallest, Magdalena Peak, is a lava dome rising 6,509 feet above sea level. For millennia, the ridges, cliffs, and canyons of the rugged Sierra de las Uvas have defined the movement and migration patterns of humans and wildlife alike. The Robledo Mountains, which are composed of alluvial limestone bedrock and contain numerous caves, have long been an important site for research on the formation of desert soils and sedimentary rock, including geological studies of sedimentation and stratigraphy.

The Potrillo Mountains and volcanic field are testament to the area's violent geologic history of seismicity and volcanism. Millions of years after the Cenozoic tectonics that opened the Río Grande Rift, volcanic activity left its mark on the surface, which is punctuated by cinder cone and shield volcanoes, thick layers of basalt, craters, and lava flows. The Potrillo volcanic field contains over 100 cinder cones, ranging in age from 20,000 to one million years old. The Aden Lava Flow area is characterized by lava tubes, steep-walled depressions, and pressure ridges that memorialize the flow of lava that created this unique landscape.

The volcanic field also contains five maars, or low-relief volcanic craters. Kilbourne Hole, a maar with unique volcanic features that the Secretary of the Interior designated as a National Natural Landmark in 1975, is over a mile wide and over 300 feet deep. The sparkling yellow and green olivine glass granules found inside rocks blown from the crater attract amateur and professional geologists to this site, and its resemblance to the lunar landscape provides scientists and visitors with other-worldly experiences, as it did for the Apollo astronauts who trained there. A slightly smaller maar, Hunt's Hole, brings visitors and geologists to the southeastern corner of the Potrillo Mountains complex. The wide range of unique and exemplary volcanic features in the Potrillos makes this area a center for research in geology and volcanology.

The iconic Doña Ana Mountains include limestone ridges, hogbacks, and cuestas topped by monzonite peaks, including Summerford Mountain and Doña Ana Peak, the highest of these at nearly 6,000 feet. To the east, the steep, needle-like spires of the Organ Mountains rise to over 9,000 feet and have been a landmark for travelers for centuries. These block-faulted, uplifted mountains expose geologically significant Precambrian granite and metamorphic basement rocks.

Much of the area is ripe for paleontological discovery. For example, Shelter Cave in the Organ Mountains is a well-documented fossil site, including fossil remnants of ancient ground sloths, birds, and voles. The Robledo Mountains are also an important site for paleontological research; the fossilized tracks and remains of prehistoric creatures preserved there play a vital role in our understanding of the Permian period. This area, along with the Organ Mountains, also contains abundant invertebrate fossils. The congressionally designated Prehistoric Trackways National Monument is adjacent to, and shares its paleontologically rich geologic formations with, the Organ Mountains-Desert Peaks area, suggesting that this landscape could yield many more significant fossil discoveries. Among the volcanic cones in the Potrillo Mountains is Aden Crater, a small shield cone where a lava tube housed the 11,000-year old skeleton of a ground sloth, one of few ever recovered with skin and hair preserved and a key to understanding the extinction of this and other species.

The diverse geology underlies an equally wide array of vegetative communities and ecosystems, which range from low-elevation Chihuahuan grasslands and scrublands to higher elevation stands of ponderosa pine. Seasonal springs and streams in the mountains and canyon bottoms create rare desert riparian ecosystems. These communities provide habitat for many endemic and special status plant and animal species.

Throughout the area, the characteristic plants of the Chihuahuan desert are evident. Tobosa grasslands can be found in the desert flats, punctuated by creosote bush and mesquite, as well as sacahuista, lechuguilla, and ferns. In the Sierra de las Uvas Mountains, black grama grasslands appear on the mesas while juniper woodlands and Chihuahuan vegetation give way to higher elevation montane communities. Formed by a series of alluvial fans, bajadas extend out from the base of the area's mountains and provide purchase for oak species, Mexican buckeye, prickly pears, white fir, willow, catsclaw mimosa, sotol, agave, ocotillo, flowering cactus, barrel cactus, brickellbush, and tarbush. The Potrillo Mountains are home to desert shrub communities that also include soaptree yucca and four winged saltbush.

These species are emblematic of the Chihuahuan Desert, and the diversity of plant and animal communities found here is stunning. The transitions among vegetation zones found in the Sierra de las Uvas and Potrillos make this area an important resource for ecological research. Similarly, the Doña Ana Mountains abut one of the Nation's long-term ecological research areas, making them an important feature of many studies in wildlife biology, botany, and ecology.

The Organ Mountains are home to alligator juniper, gray oak, and mountain mahogany, as well as the endemic Organ Mountain evening primrose, Organ Mountains giant hyssop, Organ Mountains paintbrush, Organ Mountains pincushion cactus, Organ Mountain figwort, Organ Mountains scaleseed, night-blooming cereus, Plank's Catchfly, and nodding cliff daisy, and likely the endangered Sneed's pincushion cactus.

The area also supports diverse wildlife. Across the Organ Mountains-Desert Peaks landscape, many large mammal species can be found, such as mountain lions, coyotes, and mule deer. The Organ Mountains were also historically home to desert bighorn sheep. Raptors such as the golden eagle, red-tailed hawk, and endangered Aplomado falcon soar above the area's grasslands and foothills, where they prey on a variety of mice, rock squirrels, and other rodents, including the Organ Mountains chipmunk.

The area's exceptional animal diversity also includes many migratory and grassland song birds and a stunning variety of reptiles, such as black-tailed, western diamondback, and banded rock rattlesnakes; whipsnakes and bullsnakes; and tree, earless, Madrean alligator, and checkered whiptail lizards. Birds such as Gambel's quail, black-throated sparrow, ladder-backed woodpecker, verdin, black-tailed gnatcatcher, lesser nighthawk, Scott's oriole, and cactus wren also make their homes here, along with many species of bats. Other mammals, including black-tailed jackrabbits, cactus mice, and kangaroo rats, inhabit the area. One of several species of rare terrestrial snails in the area, the Organ Mountain talussnail, is also endemic.

The protection of the Organ Mountains-Desert Peaks area will preserve its cultural, prehistoric, and historic legacy and maintain its diverse array of natural and scientific resources, ensuring that the prehistoric, historic, and scientific values of this area remain for the benefit of all Americans.

Whereas section 2 of the Act of June 8, 1906 (34 Stat. 225, 16 U.S.C. 431) (the “Antiquities Act”) authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS it is in the public interest to preserve the objects of scientific and historic interest on the Organ Mountains-Desert Peaks lands;

NOW, THEREFORE, I, BARACK OBAMA, President of the United States of America, by the authority vested in me by section 2 of the Antiquities Act, hereby proclaim the objects identified above that are situated upon lands and interests in lands owned or controlled by the Government of the United States to be the Organ Mountains-Desert Peaks National Monument (monument) and, for the purpose of protecting those objects, reserve as part thereof all lands and interests in lands owned or controlled by the Government of the United States within the boundaries described on the accompanying map, which is attached to and forms a part of this proclamation. These reserved Federal lands and interests in lands encompass approximately 496,330 acres, which is the smallest area compatible with the proper care and management of the objects to be protected.

All Federal lands and interests in lands within the boundaries of the monument are hereby appropriated and withdrawn from all forms of entry, location, selection, sale, leasing, or other disposition under the public land laws, including withdrawal from location, entry, and patent under the mining laws, and from disposition under all laws relating to mineral and geothermal leasing, other than by exchange that furthers the protective purposes of the monument.

The establishment of the monument is subject to valid existing rights. Lands and interests in lands within the monument's boundaries not owned or controlled by the United States shall be reserved as part of the monument upon acquisition of ownership or control by the United States.

The Secretary of the Interior (Secretary) shall manage the monument through the Bureau of Land Management (BLM) as a unit of the National Landscape Conservation System, pursuant to applicable legal authorities, including, as applicable, the provisions of section 603 of the Federal Land Policy and Management Act (43 U.S.C. 1782) governing the management of wilderness study areas, to protect the objects identified above.

For purposes of protecting and restoring the objects identified above, the Secretary, through the BLM, shall prepare and maintain a management plan for the monument and shall provide for maximum public involvement in the development of that plan including, but not limited to, consultation with tribal, State, and local governments.

Except for emergency or authorized administrative purposes, motorized vehicle use in the monument shall be permitted only on designated roads, and non-motorized mechanized vehicle use shall be permitted only on roads and trails designated for their use; provided, however, that nothing in this provision shall be construed to restrict the use of motorized vehicles in wilderness study areas beyond the requirements of section 603 of the Federal Land Policy and Management Act. No additional roads or trails shall be established for motorized vehicle or non-motorized mechanized vehicle use unless necessary for public safety or protection of the objects identified above.

Nothing in this proclamation shall be construed to preclude the Secretary from renewing or authorizing the upgrading of existing utility line rights-of-way within the physical scope of each such right-of-way that exists on the date of this proclamation. Other rights-of-way shall be authorized only if they are necessary for the care and management of the objects identified above. However, watershed restoration projects and small-scale flood prevention projects may be authorized if they are consistent with the care and management of such objects.

Nothing in this proclamation shall be deemed to enlarge or diminish the rights of any Indian tribe or pueblo. The Secretary shall, in consultation with Indian tribes, ensure the protection of religious and cultural sites in the monument and provide access to the sites by members of Indian tribes for traditional cultural and customary uses, consistent with the American Indian Religious Freedom Act (92 Stat. 469, 42 U.S.C. 1996) and Executive Order 13007 of May 24, 1996 (Indian Sacred Sites).

Laws, regulations, and policies followed by the BLM in issuing and administering grazing permits or leases on lands under its jurisdiction shall continue to apply with regard to the lands in the monument, consistent with the protection of the objects identified above.

Nothing in this proclamation shall be deemed to enlarge or diminish the jurisdiction of the State of New Mexico, including its jurisdiction and authority with respect to fish and wildlife management.

Nothing in this proclamation shall be deemed to affect the provisions of the 2006 Memorandum of Understanding between the U.S. Department of Homeland Security, the U.S. Department of the Interior, and the U.S. Department of Agriculture regarding “Cooperative National Security and Counterterrorism Efforts on Federal Lands along the United States' Borders.”

Nothing in this proclamation shall be deemed to revoke any existing withdrawal, reservation, or appropriation; however, the monument shall be the dominant reservation.

Nothing in this proclamation shall preclude low level overflights of military aircraft, the designation of new units of special use airspace, or the use or establishment of military flight training routes over the lands reserved by this proclamation.

Warning is hereby given to all unauthorized persons not to appropriate, injure, destroy, or remove any feature of the monument and not to locate or settle upon any of the lands thereof.

IN WITNESS WHEREOF, I have hereunto set my hand this twenty-first day of May, in the year of our Lord two thousand fourteen, and of the Independence of the United States of America the two hundred and thirty-eighth.

Billing code 3295-F4-P

[FR Doc. 2014-12508

Filed 5-27-14; 8:45 am]

Billing code 4310-10-C